DEPARTMENT OF HEALTH AND HUMAN SERVICES

National Institutes of Health

Office of Biotechnology Activities, Office of Science Policy, Office of the Director; Notice of Meeting

Pursuant to section 10(a) of the Federal Advisory Committee Act, as amended (5 U.S.C. Appendix 2), notice is hereby given of the meeting of the National Science Advisory Board for Biosecurity (NSABB).

Name of Committee: National Science Advisory Board for Biosecurity.

Date: December 3, 2009.

Time: 8:30 a.m. to 4 p.m. (Times are approximate and subject to change).

Agenda: Presentations and discussions regarding: (1) Introduction of new NSABB voting members; (2) federal responses to NSABB reports; (3) activities of the Working Groups on Outreach and Education and on International Engagement; (4) synthetic biology and NSABB draft report on biosecurity issues raised by synthetic biology; (5) public comments; and (6) other business of the Board.

Place: Bethesda Marriott, 5151 Pooks Hill Rd., Bethesda, MD 20814.

Contact Person: Ronna Hill, NSABB Program Assistant, NIH Office of Biotechnology Activities, 6705 Rockledge Drive, Suite 750, Bethesda, Maryland 20892, (301) 496-9838.

Under authority 42 U.S.C. 217a, Section 222 of the Public Health Service Act, as amended, the Department of Health and Human Services established the NSABB to provide advice, guidance and leadership regarding federal oversight of dual use research, defined as biological research that generates information and technologies that could be misused to pose a biological threat to public health and/or national security.

The meeting will be open to the public, however pre-registration is strongly recommended due to space limitations. Persons planning to attend should register online at: http://oba.od.nih.gov/biosecurity/biosecurity_meetings.html or by calling the Dixon Group (Contact: Marianne Tshihamba at (202) 281-2800). Individuals who plan to attend and need special assistance, such as sign language interpretation or other reasonable accommodations, should indicate these requirements upon registration.

This meeting will also be Webcast. To access the Webcast, as well as the draft meeting agenda and pre-registration information, connect to: http://oba.od.nih.gov/biosecurity/biosecurity_meetings.html. Please check this site for updates.

Any member of the public interested in presenting oral comments at the meeting may notify the Contact Person listed on this notice at least 10 days in advance of the meeting. Interested individuals and representatives of an organization may submit a letter of intent, a brief description of the organization represented, and a short description of the oral presentation. Only one representative of an organization may be allowed to present oral comments. Both printed and electronic copies are requested for the record. In addition, any interested person may file written comments with the committee. All written comments must be received by November 24, 2009 and should be sent via e-mail to nsabb@od.nih.gov with “NSABB Public Comment” as the subject line or by regular mail to 6705 Rockledge Drive, Suite 750, Bethesda, MD 20892, Attention Ronna Hill. The statement should include the name, address, telephone number and, when applicable, the business or professional affiliation of the interested person.

Dated: November 3, 2009.
Jennifer Spaeth,
Director, Office of Federal Advisory Committee Policy.

[FR Doc. E9-26933 Filed 11-6-09; 8:45 am]

BILLING CODE 4140-01-P